DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of April 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2) (A) (I.C) (Increased imports) and (a)(2)(B) (II.C) (has shifted production to a country not under the free trade agreement with U.S.) have not been met.

TA-W-51,066; Komag, Inc., Materials Technology Div. (KMT), Santa Rosa, CA

The investigation revealed that criterion (a)(2)(A) (I.C.) (Increased imports) and (a) (2)(B) (II.B) (No shift in production to a foreign country) have not been met.

TA-W-50,562; Hubble Lighting, Inc., Martin, TN

TA-W-51,397; McCrosky Tool Corp., Meadville, PA

TA-W-51,463; Fishing Vessel (F/V) Kingtail, Port Townsend, WA

TA-W-51,343; Q Media Services, Westborough, MA

TA-W-51,052; Fremont Wire Co., Leggett and Platt, Inc., Div., Fremont, IN

TA-W-51,128; DT Precision Assembly Industries, Erie, PA

TA-W-50,475; Dynamatic Corp., Kenosha, WI

TA-W-51,454; Heiting Tool & Die, Inc., Appleton, WI

TA-W-51,374; Independent Tool & Manufacturing, Inc., Meadville, PA

TA-W-50,817; Alltrista Consumer Products Co., formerly Diamond Brands, Inc., a Div. of Jarden Corp., Strong ME

TA-W-51,151; North Star Steel, a wholly owned subsidiary of Cargill, Inc., Kingman, AZ

TA-W-51,229; Uniloy Milacron, Manchester, MI

TA-W-50,497; Fishing Vessel (F/V) Northern Star, King Cove, AK

TA-W-51,419; Vaisala, Inc., a wholly owned subsidiary of Vaisala Oyj, Columbus Operations, Plain City, OH

TA-W-51,465; Little Narrows, Inc., Kodiak, AK

TA-W-50,604; Cessna Aircraft Co., Wichita, KS

TA-W-51,263; Caterpillar, Inc., Hydraulics & Hydraulic Systems Business Unit, Joliet, IL: “All workers of the V/P/M Section, Cylinders Section, and Hyraulic Systems Business Unit, Joliet, IL are denied eligibility to apply for adjustment assistance.

The workers firm does not produce an article as required for certification under Section 222 of the Trade Act of 1974.

TA-W-50,541; Prudential Insurance Co. of America, Inc., Plymouth, MN

TA-W-51,527; Robert Half Technology, a Robert Half International Co., Oklahoma City, OK

TA-W-51,447; Netmanage, Inc., Bellingham Engineering, Bellingham, WA

TA-W-51,451; Aetna, Tyler, TX

TA-W-51,328; Flour Facility and Plant Services, Inc., Basf Wilmington Site, Wilmington, NC

TA-W-51,358; Dollar Financial Group, Inc., Berwyn, PA

TA-W-51,184; ABN Amro Bank, N.V., Miami, FL

TA-W-51,191; Getronicswang Company LLC, d/b/a Getronics, Valley View, OH

TA-W-51,193; Journey Bottling Co., LLC, Santa Rosa, CA

TA-W-51,210; Intel Corp., Ethernet Switching Operations (ESO), Santa Clara, CA

TA-W-51,099; Allegheny Ludlum, Melt Shop and Rolling Mill Div., Houston, PA

TA-W-51,025; Zyquest, Inc., Depere, WI

TA-W-51,520 Bethlehem Steel Railroads-PBNE, Martin Tower Facility, Bethlehem, PA

The investigation revealed that criterion (a)(2)(A) (I.A) (no employment declines) have not been met.

TA-W-51,496; Fishing Vessel (F/V) Au, Jeneau, AK

T-W-51,513; State of Alaska Commercial Fisheries Entry Commission Permit #S04T64695F, Togiak, AK

TA-W-51,154A; Progress Casting Group, Inc., Plymouth, MN

The investigation revealed that criterion (a)(2)(A) (I.B.) (Sales or production, or both, did not decline) and (II.C) (has shifted production to a country not under the free trade agreement with the U.S.) have not been met.

TA-W-50,677; J.D. Phillips Corp., Alpena, MI

The investigation revealed that criteria (2) has not been met. The workers firm (or subdivision) is not a supplier or downstream producer to trade-affected companies.

TA-W-50,456; J and A Industrial Sheetmetal Co., Bend, OR

TA-W-50,778; Great Northern Bark Company, Libby, MT

The following certification has been issued. The requirement of (a)(2)(A) (increased imports) of Section 222 has been met.

TA-W-51,246; Cold Metal Products, Youngstown, OH

Affirmative Determinations for Worker Adjustment Assistance

The following certifications have been issued; the date following the company name and location of each determination references the impact date for all workers of such determination.

The following certifications have been issued. The requirements of (a)(2)(A) (increased imports) of Section 222 have been met.

TA-W-50,744; Warren Fabricating Corp., Niles, OH: January 28, 2002.

TA-W-51,039; Calvin Klein, Inc., New York, NY: March 31, 2002.

TA-W-51,108; Defender, Inc./Starr Supporter, Philadelphia, PA: February 27, 2002.

TA-W-50,788; Republic Engineered Products LLC, a/k/a/ Republic Technologies International LLC, Canton, OH: April 17, 2003.

TA-W-50,812; Federal-Mogul, Power Train Div., Blacksburg, VA: January 24, 2002.

TA-W-50,826; Allegheny Steel Co., a subsidiary of Allegheny Technologies, Massillon, OH: January 30, 2002.

TA-W-51,325; Powerwave Technologies, Santa Ana, CA: March 13, 2002.

TA-W-51,105; Dinaire, LLC, Buffalo, NY: February 25, 2002.

TA-W-50,445; Coe Manufacturing Co., Painesville, OH: December 18, 2001.

TA-W-51,404; Texstyle, Inc., Manchester, KY: March 21, 2002.

TA-W-51,259; TTM Technologies, Inc., Burlington Facility, Redmond, WA: March 20, 2002.

TA-W-51,223; PPG Fiberglass Products, Shelby, NC: March 17, 2002.

TA-W-51,069; Micron Technology, Inc., Lehi, UT: March 3, 2002.

TA-W-51,363; Weyerhaeuser Co., Western Manufacturing Purchasing, Lebanon, OR: March 27, 2002.

TA-W-51,271; James Moore & Son, Brownsville, TN: March 13, 2002.

TA-W-51,378; American Quality Ceramics, Bangs, Texas: March 31, 2002.

TA-W-50,622; Dallas Semiconductor/Maxim, Dallas, TX: January 9, 2002.

TA-W-51,274; RFD Publications, LLC, Wilsonville, OR: March 19, 2002.

TA-W-51,442; Stora Enso, Oyj, Stora Enso, Duluth Paper Mill, Duluth, MN: March 31, 2002.

TA-W-50,709; Coilcraft, Inc., Cary, IL: January 20, 2002.

TA-W-51,154; Progress Casting Group, Inc., Albert Lea, MN: March 7, 2002.

The following certifications have been issued. The requirements of (a)(2)(B) (shift in production) of Section 222 have been met.

TA-W-51,329; Dana Corp., Perfect Circle Div., Richmond Machining Plant, Richmond, IN: March 26, 2002.

TA-W-50,847; Elmer's Products, Inc., Guilford Road, Bainbridge, NY: January 31, 2002.

TA-W-51,087; Wacker Siltronic Corp., Portland, OR: March 6, 2002.

TA-W-51,133; The Relizon Co., Newark, OH: March 13, 2002.

TA-W-51,179; Standard Corp., Duncan SC: March 14, 2002.

TA-W-50,642; Motorola, Inc., Broadband Communications Sector, Headend Infrastructure Unit, Fort Worth, TX: November 27, 2001.

TA-W-51,435; Breg, Inc., including leased workers of Secure Staffing, Express Personnel, The Eastridge Group, Kelly Services, Omni Express, and Westaff, Vista, CA: April 4, 2002.

TA-W-51,142; Vaisala, Inc., a wholly owned subsidiary of Vaisala Oyj, Sunnyvalle, CA: March 11, 2002.

TA-W-50,896; The Eaton Corp., Powertrain and Specialty Controls Operation, (including leased workers from Spherion Staffing and Adecco Staffing), Rochester Hills, MI: January 15, 2002.

TA-W-51,406; Torque Traction Manufacturing Technologies, Inc., a wholly owned subsidiary of Dana Corp., Whitsett, NC: March 24, 2002.

TA-W-51,212; Siemens VDO Automotive, VDO North America, LLC, Cheshire, CT: March 14, 2002.

TA-W-51,414; Windsor Forestry Tools, LLC, a wholly owned subsidiary of Blount, Inc., Milan, TN: March 20, 2002.

TA-W-51,351; Trade Wind Apparel, Inc., Commerce, GA: March 26, 2002.

TA-W-51,318; Ametek Specialty Motors, Chambersburg, PA: March 25, 2002.

TA-W-51,294; Acraline Products, Inc., Tipton, IN: March 24, 2002.

TA-W-51,300; Fujitsu Ten Corporation of America, a wholly owned subsidiary of Fujitsu Ten Limited, Rushville, IN: March 21, 2002.

TA-W-51,446; Fishing Vessel (F/V) Lady Marion, Homer, AK: April 3, 2002.

TA-W-51,452; Finegood Moldings, Inc., d/b/a Good Companies, Laminating Department, Carson, CA: April 1, 2002.

TA-W-51,461; Gilliam Candy Co., a division of Gilliam Candy Brands, Inc., Paducah, KY: April 3, 2002.

TA-W-51,508; Andrew Corporation, Rigid Waveguide Assemblies, Orland Park, IL: April 3, 2002.

TA-W-50,681; West Mill Clothes, Inc., Woodside, NY: January 23, 2002.

TA-W-51,316; Medsep Corp., d/b/a Pall Medical, Covina, CA: March 19, 2002.

TA-W-51,375; U.S. Repeating Arms Co., Inc., New Haven, CT: March 31, 2002.

TA-W-51,263; Caterpillar, Inc., Hydraulics & Hydraulic Systems Business Unit, Joliet, IL: March 6, 2002—All workers of the Miscellaneous Fabrication section of Caterpillar, Inc., Hydraulics and Hydraulic Systems Business Unit, Joliet, IL engaged in the production of tilt braces are eligible to apply for adjustment assistance.

The following certification has been issued. The requirement of upstream supplier to a trade certified primary firm has been met.

TA-W-51,276; Radio Frequency Systems, Inc., a subsidiary of Alcatel N.A. Cable Systems, Inc., Corvallis, OR: March 21, 2002.

Also, pursuant to Title V of the North American Free Trade Agreement Implementation Act (Public Law 103-182) concerning transitional adjustment assistance hereinafter called (NAFTA-TAA) and in accordance with Section 250(a), subchaper D, chapter 2, title II, of the Trade Act as amended, the Department of Labor presents summaries of determinations regarding eligibility to apply for NAFTA-TAA issued during the month of April 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None

The investigation revealed that the criteria for eligibility have not been met for the reasons specified.

The investigation revealed that the workers of the subject firm did not produce an article within the meaning of section 250(a) of the Trade Act, as amended.

None

Affirmative Determinations NAFTA-TAA

None

I hereby certify that the aforementioned determinations were issued during the month of April 2003.

Copies of these determinations are available for inspection in Room C-5311, U.S. Department of Labor, 200 Constitution Avenue, NW., Washington, DC 20210 during normal business hours or will be mailed to persons who write to the above address.

Dated: April 28, 2003.
Terrence Clark,
Acting Director, Division of Trade Adjustment Assistance.

[FR Doc. 03-11284 Filed 5-6-03; 8:45 am]

BILLING CODE 4510-30-P